DEPARTMENT OF THE INTERIOR

Bureau of Land Management

[LLUTG01100-14-L13100000-EJ0000]

Notice of Availability of a Draft Environmental Impact Statement for the Monument Butte Area Oil and Gas Development Project, Duchesne and Uintah Counties, UT

AGENCY: Bureau of Land Management, Interior.

ACTION: Notice of availability.

SUMMARY: Under the National Environmental Policy Act (NEPA), the Mineral Leasing Act of 1920, as amended, and associated regulations, the Bureau of Land Management (BLM) has prepared a Draft Environmental Impact Statement (EIS) that evaluates, analyzes, and discloses to the public the direct, indirect, and cumulative environmental impacts of a proposal to develop oil and natural gas in Duchesne and Uintah Counties, Utah. This notice announces a 45-day public comment period to meet the requirements of NEPA and Section 106 of the National Historic Preservation Act.

DATES: The Draft EIS will be available for public review for 45 calendar days following the date that the Environmental Protection Agency publishes its Notice of Availability in the Federal Register. The BLM can best use comments and resource information submitted within this 45-day review period. Three public meetings will be held during the 45-day public comment period in Roosevelt, Salt Lake City, and Vernal, Utah. The dates, times, and places will be announced at least 15 days prior to the meeting dates through the local news media and the BLM Web site: http://www.blm.gov/ut/st/en/info/newsroom.html.

ADDRESSES: Comments on the Draft EIS may be submitted by any of the following methods:

• Mail: Bureau of Land Management, Attn: Stephanie Howard, Vernal Field Office, 170 South 500 East, Vernal, UT 84078.

• Email: BLM_UT_Vernal_Comments@blm.gov.

• Fax: 435-781-4410.

Please reference the “Monument Butte EIS” when submitting comments.

FOR FURTHER INFORMATION CONTACT: Stephanie Howard, Project Manager, BLM, Vernal Field Office, 170 South 500 East, Vernal, UT 84078. Ms. Howard may also be reached at 435-781-4400. Persons who use a telecommunications device for the deaf (TDD) may call the Federal Information Relay Service (FIRS) at 1-800-877-8339 to leave a message or question for the above individual. The FIRS is available 24 hours a day, seven days a week. Replies are provided during normal business hours.

SUPPLEMENTARY INFORMATION: The Draft EIS is located online at http://www.blm.gov/ut/st/en/fo/vernal/planning/nepa_.html. In response to a proposal submitted by Newfield Exploration Company (Newfield), the BLM published in the August 25, 2010, Federal Register a Notice of Intent to prepare an EIS (75 FR 52362). The Monument Butte Project Area (MBPA) encompasses approximately 119,743 acres in an existing oil and gas producing area located primarily on BLM-administered land south of Myton in Duchesne and Uintah Counties, Utah. Of the 119,743 acres within the MBPA, approximately 87 percent is on Federal lands administered by the BLM; 11 percent is owned by the State of Utah and administered by the Utah School and Institutional Trust Lands Administration; and 2 percent is privately owned.

The Draft EIS analyzes a proposal by Newfield to further develop Federal oil and natural gas resources on its leases. This proposal is located within a highly developed field that currently contains approximately 3,395 producing oil and gas wells. The Proposed Action includes drilling up to 5,750 new oil and gas wells over a 16-year period, and constructing and operating associated ancillary transportation, transmission, processing, and treatment facilities within the MBPA. The productive life of each well is estimated to be approximately 20-30 years. The wells would be drilled to productive formations, including but not limited to, the Green River, Wasatch, Mesaverde, Blackhawk/Mancos, and/or Frontier/Dakota formations. Target depths would range from approximately 4,500-18,000 feet. Infill drilling would be performed on 40-acre surface spacing throughout the MBPA, which is equivalent to a density of 16 two- to five-acre well pads per square mile. The Proposed Action and alternatives incorporate best management practices for oil and gas development and other measures necessary to adequately address impacts to transportation, public safety, cultural resources, recreational opportunities, wildlife, threatened and endangered species, visual resources, air quality, and other relevant issues.

The Draft EIS describes and analyzes the impacts of Newfield's Proposed Action and three alternatives, including the No Action Alternative. The following is a summary of the alternatives:

1. Proposed Action—Up to 5,750 new oil or gas wells would be drilled over a period of 16 years. Additionally, approximately 243 miles of new roads and pipelines would be constructed within the same corridor; 21 new compressor stations would be constructed; 3 existing compressor stations would be expanded; 1 gas processing plant would be constructed; 7 new water treatment and injection facilities would be built; 6 existing water treatment and injection facilities would be expanded; 12 gas and oil separation plants would be constructed; 1 freshwater collector well would be drilled; and 6 water pump stations would be built. Total new surface disturbance under the proposed action would be approximately 16,129 acres.

2. No Action Alternative—Drilling and completion of development wells and infrastructure would continue as previously analyzed in other NEPA decision documents and the proposed natural gas development on BLM lands as described in the Proposed Action would not be implemented. Based on the foregoing documents and a review of information from the Utah Division of Oil, Gas, and Mining, the BLM has estimated that, as of December 31, 2012, 788 wells remain to be drilled. Total new surface disturbance under the No Action Alternative would be 870 acres of new disturbance, including construction of roads, pipelines, and additional support facilities.

3. Field-Wide Electrification Alternative—This alternative is identical to the Proposed Action, in that it would allow the drilling of up to 5,750 new wells in addition to the existing producing wells, with associated facilities. However, this alternative also incorporates a phased field-wide electrification component which consists of construction of 34 miles of overhead cross-country 69kV transmission lines, 156 miles of distribution lines, and 11 substations. Total new surface disturbance under this alternative would be approximately 16,308 acres.

4. Agency Preferred (Resource Protection) Alternative—This alternative is designed to avoid new surface disturbance within the Pariette Area of Critical Environmental Concern, adopt U.S. Fish and Wildlife Service management guidelines for two threatened Sclerocactus species and their core conservation areas, and maximize directional drilling throughout the rest of the project area. Up to 5,058 new wells would be drilled in addition to the existing producing wells. Additionally, approximately 73 miles of new roads and pipelines would be constructed within the same corridor; 17 new compressor stations would be constructed; 1 gas processing plant would be constructed; 5 new water treatment and injection facilities would be built; 5 existing water treatment and injection facilities would be expanded; 8 gas and oil separation plants would be constructed; 1 freshwater collector well would be drilled; and, 4 water pump stations would be built. Total new surface disturbance under the Agency Preferred Alternative would be approximately 9,805 acres.

The public is encouraged to comment on any of the alternatives. Comments and information submitted on the Draft EIS for the Monument Butte project, including names, email addresses, and street addresses of respondents, will be available for public review at the Vernal Field Office. The BLM will not accept anonymous comments. Before including an address, phone number, email address, or other personal identifying information in any comments, please be aware that the entire comment—including personal identifying information—may be made publicly available at any time. Requests to withhold personal identifying information from public review can be submitted, but the BLM cannot guarantee that it will be able to do so.

The BLM asks that those submitting comments make them as specific as possible with reference to chapters, page numbers, and paragraphs in the Draft EIS document. Comments that contain only opinions or preferences will not receive a formal response; however, they will be considered, and included, as part of the BLM decision-making process. The most useful comments will contain new technical or scientific information, identify data gaps in the impact analysis, or provide technical or scientific rationale for opinions or preferences.

Authority: Mineral Leasing Act of 1920, as amended, and 40 CFR 1506.6

Megan M. Crandall,
Acting State Director.

[FR Doc. 2013-30225 Filed 12-19-13; 8:45 am]

BILLING CODE 4310-DQ-P